DEPARTMENT OF DEFENSE

Department of the Army, Corps of Engineers

Notice of Availability (NOA) of the Draft Environmental Impact Statement (DEIS) and the Announcement of a Public Hearing for the Installation of a Terminal Groin Structure at the Eastern End of Holden Beach, Extending into the Atlantic Ocean, West of Lockwood Folly Inlet (Brunswick County, NC)

AGENCY: Department of the Army, U.S. Army Corps of Engineers, DoD.

ACTION: Notice of availability.

SUMMARY: The U.S. Army Corps of Engineers (USACE), Wilmington District, Wilmington Regulatory Field Office has received a request for Department of the Army authorization, pursuant to Section 404 of the Clean Water Act and Section 10 of the Rivers and Harbor Act, from the Town of Holden Beach to install a terminal groin structure on the east end of Holden Beach, extending into the Atlantic Ocean, just west of Lockwood Folly Inlet.

DATES: Written comments on the DEIS will be received until 5 p.m., October 13, 2015.

ADDRESSES: Copies of comments and questions regarding the DEIS may be submitted to: U.S. Army Corps of Engineers (Corps), Wilmington District, Regulatory Division, c/o Mrs. Emily Hughes. ATTN: File Number SAW-2011-01914, 69 Darlington Avenue, Wilmington, NC 28403.

FOR FURTHER INFORMATION CONTACT: Questions about the proposed action and DEIS can be directed to Mrs. Emily Hughes, Wilmington Regulatory Field Office, telephone: (910) 251-4635, facsimile (910) 251-4025, or email at emily.b.hughes@usace.army.mil.

SUPPLEMENTARY INFORMATION:

1. Project Description. The Town of Holden Beach is seeking Federal and State authorization for construction of a terminal groin, and associated beach fillet with required long-term maintenance, to be located at the eastern end of Holden Beach. The proposed terminal groin and beach fillet is the Town's Applicant Preferred alternative (Alternative 6—Intermediate Terminal Groin and Beach Nourishment) of six alternatives considered in this document. Under the Applicant's preferred alternative, the main stem of the terminal groin would include a 700-foot long segment extending seaward from the toe of the primary dune and a 300-foot anchor segment extending landward from the toe of the primary dune. The groin would also include a 120-ft-long shore-parallel T-Head segment centered on the seaward terminus of the main stem designed to prevent flanking. This is expected to have more of a stabilizing effect on the shoreline and minimize formation of potential offshore rip currents and sand losses during extreme wave conditions.

The seaward section of the groin would be constructed with loosely placed 4- to 5-ft-diameter granite armor stone to facilitate the movement of sand past the structure, and would have a crest width of ~5 ft and a base width of ~40 ft, while the underlying geo-textile base layer would have a slightly greater width of ~45 ft. The shore anchorage segment would be entirely buried at the completion of groin construction and would remain buried so long as the position of the MHW line remains seaward of the initial post-construction primary dune line. The intermediate groin would be designed to be a relatively low-profile structure to maximize sand overpassing and to minimize impacts to beach recreation and aesthetics.

The proposed terminal groin is one of four such structures approved by the General Assembly to be constructed in North Carolina following passing of Senate Bill (SB) 110. The U.S. Army Corps of Engineers (USACE) determined that there is sufficient information to conclude that the project would result in significant adverse impact on the human environment, and has prepared a DEIS pursuant to the National Environmental Policy Act (NEPA) to evaluate the environmental effects of the alternatives considering the project's purpose and need. The purpose and need of the proposed Holden Beach East End Shore Protection Project is to provide shoreline protection that would mitigate ongoing chronic erosion on the eastern portion on the Town's oceanfront shoreline so as to preserve the integrity of its public infrastructure, provide protection to existing development, and ensure the continued public use of the oceanfront beach along this area.

2. Issues. There are several potential environmental and public interest issues that are addressed in the DEIS. Public interest issues include, but are not limited to, the following: public safety, aesthetics, recreation, navigation, infrastructure, economics, and noise pollution. Additional issues may be identified during the public review process. Issues initially identified as potentially significant include:

a. Potential impacts to marine biological resources (burial of benthic organisms, passageway for fish and other marine life) and Essential Fish Habitat.

b. Potential impacts to threatened and endangered marine mammals, reptiles, birds, fish, and plants.

c. Potential for effects/changes to Holden Beach, Oak Island, Lockwood Folly inlet, and the AIWW respectively.

d. Potential impacts to navigation.

e. Potential effects on federal navigation maintenance regimes, including the Federal project.

f. Potential effects of shoreline protection.

g. Potential impacts on public health and safety.

h. Potential impacts to recreational and commercial fishing.

i. Potential impacts to cultural resources.

j. Potential impacts to future dredging and nourishment activities.

3. Alternatives. Six alternatives are being considered for the proposed project. These alternatives, including the No Action alternative, were further formulated and developed during the scoping process and are considered in the DEIS. A summary of alternatives under consideration are provided below:

a. Alternative 1—No Action (Continue Current Management Practices);

b. Alternative 2—Abandon and Retreat;

c. Alternative 3—Beach Nourishment Only;

d. Alternative 4—Inlet Management and Beach Nourishment;

e. Alternative 5—Short Terminal Groin with Beach Nourishment;

f. Alternative 6—Intermediate Terminal Groin with Beach Nourishment/Applicants Preferred Alternative.

4. Scoping Process. Project Review Team meetings were held to receive comments and assess concerns regarding the appropriate scope and preparation of the DEIS. Federal, state, and local agencies and other interested organizations and persons participated in these Project Review Team meetings.

The Corps will initiate consultation with the United States Fish and Wildlife Service pursuant to the Endangered Species Act and the Fish and Wildlife Coordination Act. The Corps will also consult with the National Marine Fisheries Service pursuant to the Magnuson-Stevens Act and Endangered Species Act. The Corps will coordinate with the State Department of Cultural Resources pursuant to Section 106 of the National Historic Preservation Act.

Potential water quality concerns will be addressed pursuant to Section 401 of the Clean Water Act through coordination with the North Carolina Divisions of Coastal Management (DCM) and Water Resources (DWR). This coordination will ensure consistency with the Coastal Zone Management Act and project compliance with water quality standards. The Corps has coordinated closely with DCM in the development of the DEIS to ensure the process complies with State Environmental Policy Act (SEPA) requirements, as well as the NEPA requirements. The DEIS has been designed to consolidate both NEPA and SEPA processes to eliminate duplications.

5. Availability of the DEIS. The DEIS has been published and circulated. The DEIS for the proposal can be found at the following link: http://www.saw.usace.army.mil/Missions/RegulatoryPermitProgram/MajorProjects under Holden Beach Terminal Groin—Corps ID # SAW-2011-01914. The public is invited to attend, and/or comment at, a public hearing to be held at the Holden Beach Town Hall, located at 110 Rothschild St, Holden Beach, NC 28462, on September 24, 2015 at 6:00 p.m.

Dated: August 21, 2015.
Henry M. Wicker, Jr.,
Deputy Chief, Regulatory Division.

[FR Doc. 2015-21282 Filed 8-27-15; 8:45 am]

BILLING CODE 3720-58-P